DEPARTMENT OF HEALTH AND HUMAN SERVICES

Food and Drug Administration

[Docket No. FDA-2018-N-0001]

Pathogen Reduction Technologies for Blood Safety; Public Workshop; Correction

AGENCY: Food and Drug Administration, HHS.

ACTION: Notice of public workshop; correction.

SUMMARY: The Food and Drug Administration is correcting a document that appeared in the Federal Register of September 17, 2018. The document announced a public workshop entitled “Pathogen Reduction Technologies for Blood Safety; Public Workshop.” The document was published with an error in the website address to register for the workshop. This document corrects that error.

FOR FURTHER INFORMATION CONTACT: Loni Warren Henderson or Sherri Revell, Center for Biologics Evaluation and Research, Food and Drug Administration, 10903 New Hampshire Ave., Silver Spring, MD 20993, 240-402-8010, email: CBERPublicEvents@fda.hhs.gov (subject line: Pathogen Reduction Technology and Blood Safety).

SUPPLEMENTARY INFORMATION: In the Federal Register of Monday, September 17, 2018 (83 FR 46959), in FR Doc. 2018-20090, on page 46960, the following correction is made:

On page 46960, in the second column, in section III, in the “Registration” and “Streaming Webcast of the Public Workshop” portions, “https://www.eventbrite.com/e/pathogen-reduction-technologies-for-blood-safety-public-workshop-tickets-4464956605” is corrected to read “https://www.eventbrite.com/e/pathogen-reduction-technologies-for-blood-safety-public-workshop-tickets-44649566054.”

Dated: October 9, 2018.
Leslie Kux,
Associate Commissioner for Policy.

[FR Doc. 2018-22364 Filed 10-12-18; 8:45 am]

BILLING CODE 4164-01-P